DEPARTMENT OF HOMELAND SECURITY

Bureau of Citizenship and Immigration Services

[CIS No. 2322-04]

Extension and Re-designation of Temporary Protected Status for Sudan

AGENCY: Bureau of Citizenship and Immigration Services, DHS.

ACTION: Notice.

SUMMARY: The Temporary Protected Status (TPS) designation for Sudan will expire on November 2, 2004. This notice extends the Secretary of Homeland Security's designation of Sudan for 12 months until November 2, 2005, and sets forth procedures necessary for nationals of Sudan (or aliens having no nationality who last habitually resided in Sudan) with TPS to re-register and to apply for an extension of their employment authorization documentation for the additional 12-month period. Re-registration is limited to persons who registered under the initial designation (which was announced on November 4, 1997) and also timely re-registered under each subsequent extension of the designation; or who registered under the re-designation (which was announced on November 9, 1999) and also timely re-registered under each extension of the re-designation. This notice also re-designates Sudan for TPS. To register for the first time under the re-designation, eligible nationals of Sudan (or aliens having no nationality who last habitually resided in Sudan) must have been continuously physically present and continuously resided in the United States since October 7, 2004.

EFFECTIVE DATES: The extension of Sudan's TPS designation is effective November 2, 2004, and will remain in effect until November 2, 2005. The 60-day re-registration period begins October 7, 2004 and will remain in effect until December 6, 2004. The re-designation of Sudan for TPS also is effective November 2, 2004, and will remain in effect until November 2, 2005. The 180-day registration period begins October 7, 2004 and will remain in effect until April 5, 2005.

FOR FURTHER INFORMATION CONTACT: Colleen Cook, Residence and Status Services, Office of Programs and Regulations Development, Bureau of Citizenship and Immigration Services, Department of Homeland Security, 425 I Street, NW., Ullico Building, 3rd Floor, Washington, DC 20529, telephone (202) 514-4754.

SUPPLEMENTARY INFORMATION:

What Authority Does the Secretary of the Department of Homeland Security Have To Extend and Re-designate TPS for Sudan?

On March 1, 2003, the functions of the Immigration and Naturalization Service (Service) transferred from the Department of Justice (DOJ) to the Department of Homeland Security (DHS) pursuant to the Homeland Security Act of 2002, Pub. L. 107-296. The responsibilities for administering TPS held by the Service were transferred to the Bureau of Citizenship and Immigration Services (BCIS).

Under section 244 of the Immigration and Nationality Act (Act), 8 U.S.C. 1254a, the Secretary of DHS, after consultation with appropriate agencies of the Government, is authorized to designate a foreign state or (part thereof) for TPS. 8 U.S.C. 1254a(b)(1). The Secretary of DHS may then grant TPS to eligible nationals of that foreign state (or aliens having no nationality who last habitually resided in that state).

Section 244(b)(3)(A) of the Act requires the Secretary of DHS to review, at least 60 days before the end of the TPS designation or any extension thereof, the conditions in a foreign state designated for TPS to determine whether the conditions for a TPS designation continue to be met and, if so, the length of an extension of TPS. 8 U.S.C. 1254a(b)(3)(A). If the Secretary of DHS determines that the foreign state no longer meets the conditions for TPS designation, he shall terminate the designation, as provided in section 244(b)(3)(B) of the Act. 8 U.S.C. 1254a(b)(3)(B). If the Secretary of DHS does not determine that a foreign state (or part thereof) no longer meets the conditions for designation at least 60 days before the designation, or extension of such designation, is due to expire, section 244(b)(3)(C) of the Act provides for an automatic extension of TPS for an additional period of 6 months (or, in the discretion of the Secretary of DHS, a period of 12 or 18 months). 8 U.S.C. 1254a(b)(3)(C).

Why Did the Secretary of DHS Decide To Extend and Re-designate TPS for Sudan?

On November 4, 1997, the Attorney General published a notice in the Federal Register at 62 FR 59737 designating Sudan for TPS. The initial designation was extended for twelve months by notice published in the Federal Register on November 3, 1998 at 63 FR 59337. The Attorney General re-designated Sudan for TPS by a notice published in the Federal Register on November 9, 1999 at 64 FR 61128. The re-designation of TPS for Sudan subsequently was extended by the Attorney General three times by Federal Register notice (65 FR 67407, 66 FR 46031 and 67 FR 55877). The last extension of TPS for Sudan by the Attorney General was published in the Federal Register on August 30, 2002 at 67 FR 55877.

The Secretary of Homeland Security published a 12-month extension of TPS for Sudan by publishing a notice in the Federal Register on September 3, 2003 at 68 FR 52410. This extension expires on November 2, 2004.

Since the date of the most recent extension, DHS and the Department of State (DOS) have continued to review conditions in Sudan. Although some progress has been made in the peace negotiations for the North-South conflict, the Secretary of DHS has determined that a 12-month extension is warranted because the armed conflict in Sudan continues. Likewise, the extraordinary and temporary conditions resulting from Sudan's North-South civil war persist. 8 U.S.C. 1254a(b)(1)(A), (C). Further, the Secretary finds that it is not contrary to the national interest of the United States to permit nationals of Sudan (or aliens having no nationality who last habitually resided in Sudan) who otherwise qualify for TPS to remain temporarily in the United States. 8 U.S.C. 1254a(b)(1)(C). The Secretary of DHS has also determined that Sudan be re-designated for TPS based on the intensification of the armed conflict in the Darfur region of Sudan.

Both DOS and the BCIS Resource Information Center note that a framework peace agreement between the Government of Sudan and the Sudan People's Liberation Army (SPLA) was signed in June 2004. (DOS Recommendation (June 24, 2004) and BCIS Resource Information Center Report (June 30, 2004), (hereinafter RIC Report (June 30, 2004)). In spite of that progress, the North-South civil war continues without a comprehensive peace agreement to end the civil war. (DOS Recommendation (June 24, 2004)). Fighting continues between the SPLA and southern militias. (RIC Report (June 30, 2004). Renewed fighting caused the displacement of 70,000 people in south Sudan's Shilluk Kingdom. Id. The 20-year old conflict is estimated to have killed 2 million people, internally displaced 4.5 million people, and sent over 600,000 refugees into neighboring countries. (DOS Recommendation (June 24, 2004)).

In addition to the North-South conflict, the conflict in the western region of Darfur has intensified. Up to 30,000 civilians have been killed. (RIC Report (June 30, 2004)). Up to one million people have been displaced from their homes in Darfur and over 100,000 have fled to neighboring Chad. Id. One million civilians in Darfur remain beyond the reach of aid workers due to the ongoing conflict. Id. Reports of killings, rapes, beatings, looting and burning of property throughout the Darfur region continue. (DOS Recommendation (June 24, 2004)).

Based upon this review, the Secretary of DHS, after consultation with appropriate government agencies, finds that the conditions that prompted designation of Sudan for TPS continue to be met. 8 U.S.C. 1254a(b)(3)(A). The armed conflict is ongoing and there are extraordinary and temporary conditions in Sudan such that it is not safe to return nationals of Sudan (or aliens having no nationality who last habitually resided in Sudan) if these aliens meet the statutory and regulatory requirements for TPS. 8 U.S.C. 1254a(b)(1)(A), (C). The Secretary of DHS also finds that permitting nationals of Sudan (or aliens having no nationality who last habitually resided in Sudan) who are eligible for TPS to remain temporarily in the United States is not contrary to the national interest of the United States. 8 U.S.C. 1254a(b)(1)(C). On the basis of these findings, the Secretary of DHS concludes that the TPS designation for Sudan should be extended for an additional 12-month period and that Sudan should be re-designated for TPS. 8 U.S.C. 1254a(b)(3)(C), 1254a(b)(1)(A).

If I Currently Have TPS Through the Sudan TPS Designation, Do I Still Re-register for TPS?

Yes. If you already have received TPS benefits through the Sudan TPS designation, your benefits will expire on November 2, 2004. Accordingly, individual TPS beneficiaries must comply with the re-registration requirements described below in order to maintain their TPS benefits through November 2, 2005. TPS benefits include temporary protection against removal from the United States, as well as employment authorization, during the TPS designation period and any extension thereof. 8 U.S.C. 1254a(a)(1).

If I Am Currently Registered for TPS, How Do I Re-register for an Extension?

All persons previously granted TPS under the Sudan designation who wish to maintain such status must apply for an extension by filing the following: (1) Form I-821, Application for Temporary Protected Status, without the filing fee; (2) Form I-765, Application for Employment Authorization; (3) two identification photographs (full face frontal 2 inches x 2 inches); and (4) a biometrics fee of seventy dollars ($70) for each applicant age 14 or older. (See the chart below to determine whether you must submit the one hundred and seventy-five dollar ($175) filing fee with Form I-765.) All applicants for TPS benefits, including those applying for re-registration need to be re-fingerprinted and thus need to pay the seventy dollar ($70) biometric services fee.

An application submitted without the required fee and/or photos will be returned to the applicant. Submit the completed forms and applicable fee, if any, to the BCIS District Office having jurisdiction over your place of residence during the 60-day re-registration period that begins October 7, 2004 and ends December 6, 2004. An interim employment authorization document will not be issued to an applicant unless the Form I-765, as part of the TPS registration package, has been pending with BCIS more than 90 days after all requested initial evidence has been received, including collection of the applicant's fingerprints at an Application Support Center (ASC). See 8 CFR 103.2(b)(10)(ii), 274a.13(d).

If: | Then:
You are applying for employment authorization until November 2, 2005 | You must complete and file the Form I-765, Application for Employment Authorization, with the $175 fee.
You already have employment authorization or do not require employment authorization | You must complete and file Form I-765 with no fee.¹
You are applying for employment authorization and are requesting a fee waiver | You must complete and file: (1) Form I-765 and (2) a fee waiver request and affidavit (and any other information) in accordance with 8 CFR 244.20.
¹ An applicant who does not seek employment authorization documentation does not need to submit the $175 fee, but must still complete and submit Form I-765 for data gathering purposes.

Does this extension allow nationals of Sudan (or aliens having no nationality who last habitually resided in Sudan) who entered the United States after November 9, 1999, to file for TPS?

Yes. This notice re-designates Sudan for TPS based on the ongoing armed conflict in the Darfur region. To register for TPS under this re-designation nationals of Sudan (or aliens having no nationality who last habitually resided in Sudan) must have been continuously physically present and continuously resided in the United States since October 7, 2004.

If I Am Not Currently Registered for TPS, How Do I Register Under the Re-designation?

First-time applicants for TPS may register under the re-designation by filing the following: (1) Form I-821, Application for Temporary Protected Status, with the fifty dollar ($50) filing fee; (2) Form I-765, Application for Employment Authorization; (3) two identification photographs (full face frontal 2 inches × 2 inches); (4) supporting evidence as required to establish eligibility for TPS benefits as provided in 8 CFR 244.9; and (5) a biometrics fee of seventy dollars ($70) for each applicant over the age of 14. (See the chart below to determine whether you must submit the one hundred and seventy five dollar ($175) filing fee with Form I-765).

An application submitted without the required fee and/or photos will be returned to the applicant. Submit the completed forms and applicable fee, if any, to the BCIS District Office having jurisdiction over your place of residence during the 180-day registration period that begins October 7, 2004 and ends April 5, 2005. An interim employment authorization document will not be issued to an applicant unless the Form I-765, as part of the TPS registration package, has been pending with BCIS more than 90 days after all requested initial evidence has been received, including collection of the applicant's fingerprints at an Application Support Center (ASC). See 8 CFR 103.2(b)(10)(ii), 274a.13(d).

If: | Then:
You are applying for employment authorization until November 2, 2005 | You must complete and file the Form I-765, Application for Employment Authorization, with the $175 fee if you are between the ages 14 and 65 (inclusive)
You already have employment authorization or do not require employment authorization | You must complete and file Form I-765 with no fee ¹
You are applying for employment authorization and are requesting a fee waiver | You must complete and file: (1) Form I-765 and (2) a fee waiver request and affidavit (and any other information) in accordance with 8 CFR 244.20.
¹ An applicant who does not seek employment authorization documentation does not need to submit the $175 fee, but must still complete and submit Form I-765 for data gathering purposes.

How Does an Application for TPS Affect My Application for Asylum or Other Immigration Benefits?

An application for TPS does not affect an application for asylum or any other immigration benefit. Denial of an application for asylum or any other immigration benefit does not affect an applicant's TPS eligibility, although the grounds for denying one form of relief may also be grounds for denying TPS. For example, a person who has been convicted of a particularly serious crime is not eligible for asylum or TPS. 8 U.S.C. 1158(b)(2)(A)(ii), 1254a(c)(2)(B)(ii).

Are Certain Aliens Ineligible for TPS?

Yes. Individuals who do not meet the physical presence and continuous residence requirements as explained earlier in this notice are ineligible for TPS. In addition, there are certain criminal and terrorism related inadmissibility grounds that apply to TPS applicants and would render an alien ineligible for TPS. 8 U.S.C. 1254a (c)(2)(iii). Further, aliens who have been convicted of a felony, or two or more misdemeanors, committed in the United States, and aliens who are described in the bars to asylum under Section 208(b)(2)(A) of the Act (8 U.S.C. 1158(b)(2)(A)), are ineligible for TPS. 8 U.S.C. 1254a(c)(2)(B).

Can I Apply for Another Immigration Benefit While Registered for TPS?

Yes. Registration for TPS does not prevent you from applying for another non-immigrant status or from filing for adjustment of status based on an immigrant petition. 8 U.S.C. 1254a(a)(5). TPS alone, however, does not lead to adjustment of status. 8 U.S.C. 1254a(e), (f)(1), (h). For the purposes of change of status and adjustment of status, an alien is considered as being in, and maintaining, lawful status as a nonimmigrant during the period in which the alien is granted TPS. 8 U.S.C. 1254a(f)(4).

What Happens When this Extension and Re-designation of TPS Expire on November 2, 2005?

At least 60 days before the extension and re-designation of TPS expire on November 2, 2005, the Secretary of DHS will review conditions in Sudan and determine whether the conditions for TPS designation continue to be met at that time, or whether the TPS designation should be terminated. 8 U.S.C. 1254a(b)(3)(A). Notice of that determination, including the basis for the determination, will be published in the Federal Register.

Notice of Extension and Re-designation of TPS for Sudan

By the authority vested in DHS under sections 244(b)(1)(A), (b)(1)(C), (b)(3)(A), and (b)(3)(C) of the Act, DHS has determined, after consultation with the appropriate government agencies, that the conditions that prompted designation of Sudan for TPS continue to be met. Accordingly, DHS orders as follows:

(1) The designation of Sudan under sections 244(b)(1)(A) and (b)(1)(C) of the Act is extended for an additional 12-month period from November 2, 2004, to November 2, 2005. 8 U.S.C. 1254a(b)(3)(C).

(2) Sudan is re-designated for TPS under section 244(b)(1)(A) of the Act. 8 U.S.C. 1254a(b)(1)(A).

(3) There are approximately 449 nationals of Sudan (or aliens having no nationality who last habitually resided in Sudan) who have been granted TPS and who are eligible for re-registration.

(4) It is estimated that there are fewer than 1,500 nationals of Sudan (or aliens having no nationality who last habitually resided in Sudan) who are not currently registered for TPS, but who may be eligible for TPS under this re-designation.

(5) To maintain TPS, a national of Sudan (or an alien having no nationality who last habitually resided in Sudan) who was granted TPS during the initial designation period or re-designation period must re-register for TPS under the extension during the 60-day re-registration period from October 7, 2004 until December 6, 2004.

(6) To re-register under the extension, the applicant must file the following: (1) Form I-821, Application for Temporary Protected Status; (2) Form I-765, Application for Employment Authorization; (3) two identification photographs (full face frontal 2 inches by 2 inches); and (4) a biometrics fee of seventy dollars ($70) for each applicant age 14 and older. Applications submitted without the required fee and/or photos will be returned to the applicant. There is no fee for filing a Form I-821 for re-registration. If the applicant requests employment authorization, he or she must submit one hundred and seventy-five dollars ($175) or a properly documented fee waiver request, pursuant to 8 CFR 244.20, with the Form I-765. An applicant who does not request employment authorization must nonetheless file Form I-765 along with Form I-821, but is not required to submit the fee. Failure to re-register without good cause will result in the withdrawal of TPS. 8 U.S.C. 1254a(c)(3)(C).

(7) To register for TPS under the re-designation, a national of Sudan (or alien having no nationality who last habitually resided in Sudan) who has been continuously physically present and continuously resided in the United States since October 7, 2004 must register for TPS during the 180-day registration period from October 7, 2004 until April 5, 2005. Only aliens who have not already been granted TPS pursuant to the TPS designation for Sudan, and whose status has not been withdrawn, may apply for TPS under the re-designation.

(8) To register under the re-designation, the applicant must file the following: (1) Form I-821, Application for Temporary Protected Status, with fee; (2) Form I-765, Application for Employment Authorization; (3) two identification photographs (full face frontal 2 inches by 2 inches); (4) supporting evidence as required to establish eligibility for TPS benefits as provided in 8 CFR 244.9; and (5) a biometrics fee of seventy dollars ($70) for each applicant over age 14. Applications submitted without the required fee and/or photos will be returned to the applicant. If the applicant is between the ages of 14 and 65 (inclusive) and requests employment authorization, he or she must submit one hundred and seventy-five dollars ($175) or a properly documented fee waiver request, pursuant to 8 CFR 244.20, with the Form I-765. An applicant who does not request employment authorization must nonetheless file Form I-765 along with Form I-821, but is not required to submit the fee for filing the Form I-765. Failure to re-register without good cause will result in the withdrawal of TPS. 8 U.S.C. 1254a(c)(3)(C).

(9) At least 60 days before this extension and re-designation terminates on November 2, 2005, the Secretary will review the designation of Sudan for TPS and determine whether the conditions for designation continue to be met. 8 U.S.C. 1254a(b)(3)(A). Notice of that determination, including the basis for the determination, will be published in the Federal Register. 8 U.S.C. 1254a(b)(3)(A).

(10) Information concerning the extension of designation of Sudan for TPS will be available at local BCIS offices upon publication of this notice and on the BCIS Web site at http://uscis.gov.

Dated: September 2, 2004.
Tom Ridge,
Secretary of Homeland Security.

[FR Doc. 04-22707 Filed 10-6-04; 8:45 am]

BILLING CODE 4410-10-P